DEPARTMENT OF TRANSPORTATION

Federal Aviation Administration

[Summary Notice No. PE-2000-14]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 18, 2000.

ADDRESSES: Send comments on any petition in triplicate to: Federal Aviation Administration, Office of the Chief Counsel, Attn: Rules Docket (AGC-200), Petition Docket No. _____, 800 Independence Avenue, SW., Washington, D.C. 20591.

Comments may also be sent electronically to the following internet address: 9_NPRM_cmts@faa.gov.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271 or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on March 23, 2000.
Donald P. Byrne,
Assistant Chief Counsel for Regulations.

Dispositions of Petitions

Docket No.: 27787.

Petitioner: Ameriflight, Inc.

Section of the FAR Affected: 14 CFR 135.143(c)(2).

Description of Relief Sought/Disposition: To permit Ameriflight to operate certain aircraft under part 135 without a TSO-C112 (Mode S) transponder installed on those aircraft.

Grant, 03/03/2000, Exemption No. 6830A.

Docket No.: 28529.

Petitioner: Atlantic Aero, Inc.

Section of the FAR Affected: 14 CFR 135.143(c)(2).

Description of Relief Sought/Disposition: To permit Atlantic Aero to operate certain aircraft under part 135 without a TSO-C112 (Mode S) transponder installed on those aircraft.

Grant, 03/03/2000, Exemption No. 6459c.

Docket No.: 29143.

Petitioner: Honeywell, Inc.

Section of the FAR Affected: 14 CFR 145.47(b).

Description of Relief Sought/Disposition: To permit Honeywell to substitute the instrument calibration standards of the Instituto Nacional de Metrologia, Normalizacao e Qualidade Industrial, Brazil's national standards laboratory, for the calibration standards of the U.S. National Institute of Standards and Technology, formerly the National Bureau of Standards, to test its inspection and test equipment.

Grant, 03/03/2000, Exemption No. 7137.

Docket No.: 29209.

Petitioner: AirNet Systems, Inc.

Section of the FAR Affected: 14 CFR 135.143(c)(2).

Description of Relief Sought/Disposition: To permit ASI to operate certain aircraft under part 135 without a TSO-C112 (Mode S) transponder installed on those aircraft.

Grant, 03/03/2000, Exemption No. 6772A.

Docket No.: 29218.

Petitioner: Cessna Aircraft Company.

Section of the FAR Affected: 14 CFR 91.409(b).

Description of Relief Sought/Disposition: To permit owners and operators of Cessna C-172R, C-172S, and C-182S to use Cesna's PhaseCard Inspection Program rather under completing the 100-hour inspection required by 14 CFR § 91.409(b).

Grant, 03/03/2000, Exemption No. 6091A.

Docket No.: 29723.

Petitioner: Westjet Air Center, Inc.

Section of the FAR Affected: 14 CFR 61.3(a) and (c).

Description of Relief Sought/Disposition: To permit Westjet to issue to its pilot flight crewmembers written confirmation of an individual FAA-issued crewmember certificates based on information in Westjet's approved record system. That confirmation, when attached to this exemption, permits (1) Westjet to operate the affected flight and (2) the individual pilot to serve as a flight crewmember for any part 135 flight operation without having in his/her possession an FAA-issued pilot or medical certificate.

Grant, 03/06/2000, Exemption No. 7136.

Docket No.: 29813.

Petitioner: Mr. Jeffrey D. Harband..

Section of the FAR Affected: 14 CFR 135.251, 135.255, 135.353, and appendixes I and J to part 121.

Description of Relief Sought/Disposition: To permit Mr. Harband to conduct local sightseeing flights for charitable organizations, for compensation or hire, without complying with certain organizations, for compensation or hire, without complying with certain anti-drug and alcohol misuse prevention requirements of part 135.

Grant, 03/08/2000, Exemption No. 7139.

Docket No.: 29887.

Petitioner: Atlantic Southeast Airlines, Inc.

Section of the FAR Affected: 14 CFR 121.434(c)(1)(ii).

Description of Relief Sought/Disposition: To permit ASA to substitute a qualified and authorized check airman in place of an FAA inspector to observe a qualifying pilot in command who is completing initial or upgrade training specified in § 121.424 during at least one flight leg that includes a takeoff and a landing.

Grant, 03/07/2000, Exemption No. 7135.

Docket No.: 29902.

Petitioner: Brim Equipment Leasing, Inc., d.b.a. Brim Aviation.

Section of the FAR Affected: 14 CFR 135.143(c)(2).

Description of Relief Sought/Disposition: To permit Brim Aviation to operate its Robinson R22 Beta II aircraft under part 135 without a TSO-C112 (Mode S) transponder installed in the aircraft.

Grant, 03/08/2000, Exemption No. 7141.

Docket No.: 29926.

Petitioner: Ottumwa Flying Services, Inc.

Section of the FAR Affected: 14 CFR 135.143(c)(2).

Description of Relief Sought/Disposition: To permit OFS to operate its King Air aircraft under part 135 without a TSO-C112 (Mode S) transponder installed in the aircraft.

Grant, 03/08/2000, Exemption No. 7140.

[FR Doc. 00-7636 Filed 3-27-00; 8:45 am]

BILLING CODE 4910-13+M